DEPARTMENT OF COMMERCE

International Trade Administration

[A-570-970]

Multilayered Wood Flooring From the People's Republic of China: Final Results of Antidumping Duty Administrative Review, Final Determination of No Shipments, and Final Successor-in-Interest Determination; 2020-2021

AGENCY: Enforcement and Compliance, International Trade Administration, Department of Commerce.

SUMMARY: The U.S. Department of Commerce (Commerce) determines that Zhejiang Fuerjia Wooden Co., Ltd. (Fuerjia) has not made sales of multilayered wood flooring (wood flooring) from the People's Republic of China (China) at prices below normal value during the period of review (POR) December 1, 2020, through November 30, 2021. In addition, Commerce determines that certain companies had no shipments during the POR or did not establish their eligibility for a separate rate, and that Arte Mundi Group Co., Ltd. (Arte Mundi Group) is the successor-in-interest to Arte Mundi (Shanghai) Aesthetic Home Furnishings Co., Ltd. (Arte Mundi Shanghai).

DATES: Applicable June 30, 2023.

FOR FURTHER INFORMATION CONTACT: Alexis Cherry or Max Goldman, AD/CVD Operations, Office VIII, Enforcement and Compliance, International Trade Administration, U.S. Department of Commerce, 1401 Constitution Avenue NW, Washington, DC, 20230; telephone: 202-482-0607 and 202-482-0224, respectively.

SUPPLEMENTARY INFORMATION:

Background

Commerce published the Preliminary Results of the administrative review on December 28, 2022.¹ For the events that occurred since Commerce published the Preliminary Results, see the Issues and Decision Memorandum.² Commerce conducted this review in accordance with section 751(a) of the Tariff Act of 1930, as amended (the Act). On April 20, 2023, we extended the deadline for these final results to June 23, 2023.³

¹ See Multilayered Wood Flooring from the People's Republic of China: Preliminary Results of the Antidumping Duty Administrative Review, Preliminary Determination of No Shipments, Preliminary Successor in-Interest Determination, and Rescission of Review, in Part; 2020-2021, 87 FR 79859 (December 28, 2022) (Preliminary Results), and accompanying Preliminary Decision Memorandum (PDM).

² See Memorandum, “Issues and Decision Memorandum: Antidumping Duty Administrative Review of Multilayered Wood Flooring from the People's Republic of China; 2020-2021,” dated concurrently with, and hereby adopted by, this notice (Issues and Decision Memorandum).

³ See Memorandum, “Extension of Deadline for Final Results of Antidumping Duty Administrative Review; 2020-2021,” dated April 20, 2023.

Scope of the Order ⁴

⁴ See Multilayered Wood Flooring from the People's Republic of China: Notice of Amended Final Affirmative Determination of Sales at Less than Fair Value and Antidumping Duty Order, 76 FR 76690 (December 8, 2011), as amended in Multilayered Wood Flooring from the People's Republic of China: Amended Antidumping and Countervailing Duty Orders, 77 FR 5484 (February 3, 2012) (collectively, Order); see also Multilayered Wood Flooring from the People's Republic of China: Final Clarification of the Scope of the Antidumping and Countervailing Duty Orders, 82 FR 27799 (June 19, 2017).

The product covered by the Order is wood flooring from China. A full description of the scope of the Order is contained in the Issues and Decision Memorandum.

Analysis of Comments Received

All issues raised in the parties' briefs are addressed in the Issues and Decision Memorandum. A list of these issues is attached to this notice.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁵ See Appendix 1.

Changes From the Preliminary Results

Based on information received since the Preliminary Results and for the reasons explained in the Issues and Decision Memorandum, we are revising the surrogate value for labor.⁶

⁶ See Issues and Decision Memorandum at “Changes to the Preliminary Results” and Comment 3.

Final Determination of No Shipments

In the Preliminary Results, Commerce determined that certain companies did not have shipments of subject merchandise during the POR.⁷ These companies are listed in Appendix II of this notice. As we received no information to contradict our preliminary determination with respect to those companies, we continue to find that they made no shipments of subject merchandise to the United States during the POR. Accordingly, we will issue appropriate instructions that are consistent with our “automatic assessment” clarification for all of the companies listed in Appendix II.⁸

⁷ See Preliminary Results PDM at 6-8.

⁸ See Non-Market Economy Antidumping Proceedings: Assessment of Antidumping Duties, 76 FR 65694 (October 24, 2011) (Assessment Notice); see also “Assessment Rates” section, below.

Final Results of Successor-in-Interest Analysis

In the Preliminary Results, Commerce determined that Arte Mundi Group is the successor-in-interest to Arte Mundi Shanghai.⁹ No party commented on this issue, and we have not received any information to contradict our preliminary finding. Therefore, we continue to find that Arte Mundi Group is the successor-in-interest to Arte Mundi Shanghai.

⁹ See Preliminary Results PDM at 8-11.

Separate Rates

We determine that Fuerjia and four additional companies that were not selected for individual review demonstrated their eligibility for separate rates. These companies are listed in the table in the “Final Results of Administrative Review” section below. We continue to find that Metropolitan Hardwood Floors, Inc.¹⁰ and five other companies are not eligible for a separate rate. These companies are listed in Appendix III of this notice.

¹⁰ See Issues and Decision Memorandum at Comment 2.

Rate for Non-Examined Separate Rate Respondents

The statute and our regulations do not address the establishment of a rate to be assigned to respondents not selected for individual examination when we limit our examination of companies subject to the administrative review pursuant to section 777A(c)(2)(B) of the Act. Generally, we look to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available}.” Accordingly, Commerce's usual practice in determining the rate for separate-rate respondents not selected for individual examination, has been to average the weighted-average dumping margins of the selected companies, excluding rates that are zero, de minimis, or based entirely on facts available.¹¹ However, when the weighted-average dumping margins established for all individually investigated respondents are zero, de minimis, or based entirely on facts available, section 735(c)(5)(B) of the Act permits Commerce to “use any reasonable method to establish the estimated all-others rate for exporters and producers not individually investigated, including averaging the estimated weighted-average dumping margins determined for the exporters and producers individually investigated.” ¹²

¹¹ See Longkou Haimeng Mach. Co. v. United States, 581 F. Supp. 2d 1344, 1357-60 (CIT 2008) (affirming Commerce's determination to assign a 4.22 percent dumping margin to the separate-rate respondents in a segment where the three mandatory respondents received dumping margins of 4.22 percent, 0.03 percent, and zero percent, respectively); see also Certain Kitchen Appliance Shelving and Racks from the People's Republic of China: Final Determination of Sales at Less Than Fair Value, 74 FR 36656, 36660 (July 24, 2009).

¹² See Albemarle Corp. v. United States, 821 F.3d 1345 (Fed. Cir. 2016).

For the final results of this review, we continue to determine the estimated dumping margin for Fuerjia, the sole cooperative mandatory respondent in this review, to be zero percent. Thus, consistent with the Preliminary Results, we are assigning this rate to the non-examined respondents which qualify for a separate rate in this review.¹³

¹³ See Preliminary Results PDM at 15-16; see also Issues and Decision Memorandum at Comment 2; and section 735(c)(5)(B) of the Act.

The China-Wide Entity

Aside from the companies for which we made a final no-shipment determination, Commerce considers all other companies for which a review was requested, and which did not demonstrate separate rate eligibility, to be part of the China-wide entity.¹⁴

¹⁴ See Appendix III.

Final Results of Administrative Review

For the companies subject to this administrative review which established their eligibility for a separate rate, Commerce determines that the following weighted-average dumping margins exist for the period December 1, 2020, through November 30, 2021:

Exporter | Weighted- average dumping margin (percent)
Zhejiang Fuerjia Wooden Co., Ltd | 0.00
Dalian Penghong Floor Products Co., Ltd./Dalian Shumaike Floor Manufacturing Co., Ltd | 0.00
Huzhou Fulinmen Imp. & Exp. Co., Ltd | 0.00
Jiangsu Guyu International Trading Co., Ltd | 0.00
Zhejiang Dadongwu Greenhome Wood Co., Ltd | 0.00

Disclosure

We intend to disclose the calculations performed within five days of the date of publication of this notice to parties in this proceeding, in accordance with 19 CFR 351.224(b).

Assessment Rates

Pursuant to section 751(a)(2)(C) of the Act and 19 CFR 351.212(b), Commerce has determined, and U.S. Customs and Border Protection (CBP) shall assess, antidumping duties on all appropriate entries of subject merchandise in accordance with these final results of review. We intend to issue assessment instructions to CBP no earlier than 35 days after the date of publication of these final results. If a timely summons is filed at the U.S. Court of International Trade, the assessment instructions will direct CBP not to liquidate relevant entries until the time for parties to file a request for a statutory injunction has expired (i.e., within 90 days of publication).

For Fuerjia and the respondents which were not selected for individual examination in this administrative review and which qualified for a separate rate, we will instruct CBP to liquidate the appropriate entries without regard to antidumping duties. For entries that were not reported in the U.S. sales databases submitted by Fuerjia, and for the companies that did not qualify for a separate rate in the administrative review, Commerce will instruct CBP to liquidate such entries at the China-wide rate (i.e., 85.13 percent).¹⁵

¹⁵ See Multilayered Wood Flooring from the People's Republic of China: Final Results of Antidumping Duty Administrative Review and Final Determination of No Shipments; 2016-2017, 84 FR 38002, 38003 (August 5, 2019).

Consistent with Commerce's assessment practice in non-market economy cases, for the companies which Commerce determined had no shipments of the subject merchandise, any suspended entries made under those exporters' case numbers (i.e., at the exporters' rates) will be liquidated at the China-wide rate.¹⁶

¹⁶ For a full discussion of this practice, see Assessment Notice.

Cash Deposit Requirements

The following cash deposit requirements will be effective upon publication of these final results for shipments of the subject merchandise from China entered, or withdrawn from warehouse, for consumption on or after the publication date, as provided by sections 751(a)(2)(C) of the Act: (1) for companies which were found eligible for a separate rate in this review, the cash deposit rate will be zero; (2) for previously investigated or reviewed Chinese and non-Chinese exporters that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These cash deposit requirements, when imposed, shall remain in effect until further notice.

Notification to Importers Regarding the Reimbursement of Duties

This notice also serves as a final reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred and the subsequent assessment of double antidumping duties, and/or an increase in the amount of antidumping duties by the amount of the countervailing duties.

Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a sanctionable violation.

This determination is issued and published in accordance with sections 751(a)(1) and 777(i)(1) of the Act and 19 CFR 351.221(b)(5).

Dated: June 23, 2023.
James Maeder,
Deputy Assistant Secretary for Antidumping and Countervailing Duty Operations.

Appendix I

List of Topics Discussed in the Issues and Decision Memorandum

I. Summary

II. Background

III. Scope of the Order

IV. Changes to the Preliminary Results

V. Discussion of the Issues

Comment 1: Whether To Apply Adverse Facts Available (AFA) to Fuerjia

Comment 2: Whether To Find Metropolitan Eligible for a Separate Rate

Comment 3: Whether To Select Malaysia or Romania as the Primary Surrogate Country

Comment 4: Whether To Revise the Surrogate Value (SV) for Plywood

Comment 5: Whether To Use Multiple Financial Statements in the Surrogate Financial Ratios

VI. Recommendation

Appendix II

No Shipments

Anhui Longhua Bamboo Product Co., Ltd.

Arte Mundi Group Co., Ltd. (successor-in-interest to Arte Mundi (Shanghai) Aesthetic Home Furnishings Co., Ltd.)

Benxi Flooring Factory (General Partnership)

Benxi Wood Company

Dalian Deerfu Wooden Product Co., Ltd.

Dalian Jiahong Wood Industry Co., Ltd.

Dalian Shengyu Science And Technology Development Co., Ltd.

Dongtai Fuan Universal Dynamics, LLC

Dun Hua Sen Tai Wood Co., Ltd.

Dunhua City Dexin Wood Industry Co., Ltd.

Dunhua City Hongyuan Wood Industry Co., Ltd.

Dunhua Shengda Wood Industry Co., Ltd.

HaiLin LinJing Wooden Products Co., Ltd.

Hunchun Xingjia Wooden Flooring Inc.

Huzhou Chenghang Wood Co., Ltd

Huzhou Sunergy World Trade Co., Ltd.

Jiangsu Keri Wood Co., Ltd.

Jiangsu Mingle Flooring Co., Ltd

Jiangsu Simba Flooring Co., Ltd.

Jiangsu Yuhui International Trade Co., Ltd.

Jiashan On-Line Lumber Co., Ltd.

Kingman Wood Industry Co., Ltd.

Linyi Anying Wood Co., Ltd.

Linyi Youyou Wood Co., Ltd.

Muchsee Wood (Chuzhou) Co., Ltd.

Pinge Timber Manufacturing (Zhejiang) Co., Ltd.

Power Dekor Group Co., Ltd.

Sino-Maple (Jiangsu) Co., Ltd.

Suzhou Dongda Wood Co., Ltd.

Tongxiang Jisheng Import and Export Co., Ltd.

Yekalon Industry Inc.

Zhejiang Longsen Lumbering Co., Ltd.

Zhejiang Shiyou Timber Co., Ltd.

Zhejiang Shuimojiangnan New Material Technology Co., Ltd.

Appendix III

China-Wide Entity

Jiashan HuiJiaLe Decoration Material Co., Ltd.

Jiaxing Hengtong Wood Co., Ltd.

Lauzon Distinctive Hardwood Flooring, Inc.

Metropolitan Hardwood Floors, Inc.

Yihua Lifestyle Technology Co., Ltd. (successor-in-interest to Guangdong Yihua Timber Industry Co., Ltd.)

Yingyi-Nature (Kunshan) Wood Industry Co., Ltd.

[FR Doc. 2023-13955 Filed 6-29-23; 8:45 am]

BILLING CODE 3510-DS-P